DEPARTMENT OF HOMELAND SECURITY

Privacy Office

[Docket No. DHS-2008-0031]

Committee Management; Notice of Committee Charter Renewal

AGENCY: Privacy Office; Department of Homeland Security.

ACTION: Committee Management; Notice of Committee Charter Renewal.

SUMMARY: The Secretary of Homeland Security has determined that the renewal of the charter of the Data Privacy and Integrity Advisory Committee is necessary and in the public interest in connection with the Department of Homeland Security's performance of its duties. This determination follows consultation with the Committee Management Secretariat, General Services Administration.

Name of Committee: Data Privacy and Integrity Advisory Committee.

ADDRESSES: If you desire to submit comments on this action, they must be submitted by June 2, 2008. Comments must be identified by DHS-2008-0031 and may be submitted by one of the following methods:

• Federal eRulemaking Portal: http://www.regulations.gov. Follow the instructions for submitting comments.

• E-mail: privacycommittee@dhs.gov. Include the docket number in the subject line of the message.

• Fax: 703-235-0442.

• Mail: Ken Hunt, Executive Director, 245 Murray Lane, Mail Stop 0550, Washington, DC 20528.

• Instructions: All submissions received must include the words “Department of Homeland Security” and DHS-2008-0031, the docket number for this action. Comments received will be posted without alteration at http://www.regulations.gov including any personal information provided.

• Docket: For access to the docket to read background documents or comments received, go to http://www.regulations.gov.

FOR FURTHER INFORMATION CONTACT: Ken Hunt, Executive Director, 245 Murray Lane, Mail Stop 0550, Washington, DC 20528, 703-235-0780 and 703-235-0442, privacycommittee@dhs.gov.

Purpose and Objective: Under the authority of 6 U.S.C. section 451, this charter establishes the Data Privacy and Integrity Advisory Committee, which shall operate in accordance with the provisions of the Federal Advisory Committee Act (FACA) (5 U.S.C. App).

The Committee will provide advice at the request of the Secretary of DHS and the Chief Privacy Officer of DHS on programmatic, policy, operational, administrative, and technological issues within the DHS that relate to personally identifiable information (PII), as well as data integrity and other privacy-related matters.

Duration: The committee's charter is effective March 25, 2008, and expires March 25, 2010.

Responsible DHS Officials: Hugo Teufel III, Chief Privacy Officer and Ken Hunt, Executive Director, 245 Murray Drive, Mail Stop 0550, Washington, DC 20528, privacycommittee@dhs.gov, 703-235-0780.

Dated: April 1, 2008.
Hugo Teufel III,
Chief Privacy Officer.

[FR Doc. E8-7277 Filed 4-7-08; 8:45 am]

BILLING CODE 4410-10-P